DEPARTMENT OF COMMERCE

[I.D. 061901B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Dealer and Interview Family of Forms.

Form Number(s): None.

OMB Approval Number: 0648-0013.

Type of Request: Regular submission.

Burden Hours: 3,171.

Number of Respondents: 15,986.

Average Hours Per Response: 10 minutes for an interview; 10 minutes for a mackerel dealer or vessel report, 15 minutes for a highly migratory species dealer report; 3 minutes for a no-purchase report from a highly migratory species dealer; 17 minutes for a swordfish import report; 10 minutes for a wreckfish, snowy grouper/tilefish, or red snapper dealer report; 3 minutes for a no-purchase report from a wreckfish, snowy grouper/tilefish, or red snapper dealer; 15 minutes for a rock shrimp, golden crab, or coral dealer report; and 5 minutes for an annual vessel inventory submission.

Needs and Uses: NOAA’s Southeast Region of the National Marine Fisheries Service requires purchase reporting by dealers participating in certain federally-regulated fisheries. It also conducts an interview program with vessel operators about their catch and effort, and to gather biological data on their catch. This reporting is needed to monitor fishing quotas and to otherwise manage the region’s fisheries.

Affected Public: Business or other for-profit organizations, individuals or households.

Frequency: Weekly, monthly, annually, and by-trip.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: June 15, 2001.
Madeleine Clayton,
Departmental Paperwork Clearance Officer, Office of the Chief Information Officer.

[FR Doc. 01-15746 Filed 6-21-01; 8:45 am]

BILLING CODE 3510-22-S